ENVIRONMENTAL PROTECTION AGENCY

[FRL 9944-17-Region 5]

Notification of a Public Teleconference of the Great Lakes Advisory Board

AGENCY: Environmental Protection Agency (EPA).

ACTION: Notice.

SUMMARY: The Environmental Protection Agency (EPA) announces a teleconference of the Great Lakes Advisory Board (the Board). The purpose of this teleconference is to discuss the Great Lakes Restoration Initiative covering (GLRI) FY15-19 and other relevant matters.

DATES: The teleconference will be held Wednesday, April 6, 2016 from 10 a.m. to 12 p.m. Central Time, 11 a.m. to 1 p.m. Eastern Time. An opportunity will be provided to the public to comment.

ADDRESSES: The public teleconference will be held by teleconference only. The teleconference number is: 1-877-226-9607; Participant code: 6050166037.

FOR FURTHER INFORMATION CONTACT: Any member of the public wishing further information regarding this meeting may contact Rita Cestaric, Designated Federal Officer (DFO), by email at Cestaric.Rita@epa.gov. General information on the Board can be found at http://glri.us/advisory/index.html.

SUPPLEMENTARY INFORMATION:

Background: The Board is a federal advisory committee chartered under the Federal Advisory Committee Act (FACA), Public Law 92-463. EPA established the Board in 2013 to provide independent advice to the EPA Administrator in her capacity as Chair of the federal Great Lakes Interagency Task Force (IATF). The Board conducts business in accordance with FACA and related regulations.

The Board consists of 16 members appointed by EPA's Administrator in her capacity as IATF Chair. Members serve as representatives of state, local and tribal government, environmental groups, agriculture, business, transportation, foundations, educational institutions, and as technical experts.

Availability of Meeting Materials: The agenda and other materials in support of the teleconference will be available on the Board Web site at http://glri.us/advisory/index.html.

Procedures for Providing Public Input: Federal advisory committees provide independent advice to federal agencies. Members of the public can submit relevant comments for consideration by the Board. Input from the public to the Board will have the most impact if it provides specific information for the Board to consider. Members of the public wishing to provide comments should contact the DFO directly.

Oral Statements: In general, individuals or groups requesting to provide comments or oral presentation at this public meeting will be limited to three minutes per speaker, subject to the number of people wanting to comment. Interested parties should contact the DFO in writing (preferably via email) at the contact information noted above by April 1, 2016 to be placed on the list of public speakers for the meeting.

Written Statements: Written statements must be received by April 1, 2016 so that the information may be made available to the Board for consideration. Written statements should be supplied to the DFO in the following formats: One hard copy with original signature and one electronic copy via email. Commenters are requested to provide two versions of each document submitted: One each with and without signatures because only documents without signatures may be published on the Board Web page.

Accessibility: For information on access or services for individuals with disabilities, please contact the DFO at the email address noted above, preferably at least 7 days prior to the meeting, to give EPA as much time as possible to process your request.

Dated: March 14, 2016.
Cameron Davis,
Senior Advisor to the Administrator.

[FR Doc. 2016-06564 Filed 3-22-16; 8:45 am]

BILLING CODE 6560-50-P